DEPARTMENT OF ENERGY

Federal Energy Regulatory Commission

Notice of Application Tendered for Filing with the Commission, Soliciting Additional Study Requests, and Establishing Procedural Schedule for Relicensing and a Deadline for Submission of Final Amendments

June 28, 2002.

Take notice that the following hydroelectric application has been filed with the Commission and is available for public inspection.

a. Type of Application: New Major License.

b. Project No.: 1979-012.

c. Date Filed: June 21, 2002.

d. Applicant: Wisconsin Public Service Corporation.

e. Name of Project: Alexander Hydroelectric Project.

f. Location: On the Wisconsin River near the City of Merrill, Lincoln County, Wisconsin.

g. Filed Pursuant to: Federal Power Act 16 U.S.C. 791 (a)-825(r).

h. Applicant Contact: Mr. David W. Harpole, Wisconsin Public Service Corporation, 700 N. Adams Street, P.O. Box 19002, Green Bay, Wisconsin. 54307 (920) 433-1264.

i. FERC Contact: Michael Spencer, michael.spencer@FERC.fed.us, (202) 219-2846.

j. Deadline for filing additional study requests: August 20, 2002.

All documents (original and eight copies) should be filed with: Magalie R. Salas, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Alexander Project consists of: (1) A dam, comprised of earthen embankments, an integral powerhouse and a gated spillway; (2) a 803-acre reservoir; (3) a powerhouse with an total installed capacity of 4,200-kilowatts and (4) appurtenant facilities. The applicant estimates that the average annual generation is 23,550 mega-watthours.

m. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

Additional study requests may be filed electronically via the internet in lieu of paper. See 18 CFR 385.2001(a)(1)(iii) and the instructions on the Commission's Web site at http://www.ferc.fed.us/efi/doorbell.htm. n. With this notice, we are initiating consultation with the Wisconsin State Historic Preservation Officer (SHPO), as required by section 106, National Historic Preservation Act, and the regulations of the Advisory Council on Historic Preservation, 36 CFR 800.4.

o. Procedural schedule and final amendments: The application will be processed according to the following Hydro Licensing Schedule. Revisions to the schedule will be made if the Commission determines it necessary to do so.

Issue Deficiency Letter—August 2002

Issue Acceptance letter—November 2002

Issue Scoping Document 1 for comments—December 2002

Request Additional Information—February 2003

Issue Scoping Document 2—March 2003

Notice of application is ready for environmental analysis—March 2003

Notice of the availability of the draft EA—September 2003

Notice of the availability of the final EA—December 2003

Ready for Commission's decision on the application—December 2003

Final amendments to the application must be filed with the Commission no later than 30 days from the issuance date of the notice of ready for environmental analysis.

Linwood A. Watson, Jr.,
Deputy Secretary.

[FR Doc. 02-16838 Filed 7-3-02; 8:45 am]

BILLING CODE 6717-01-P